FEDERAL ELECTION COMMISSION

Sunshine Act Notice

AGENCY: Federal Election Commission.

Federal Register Citation of Previous Announcement—76 FR 55677 (September 8, 2011).

DATE AND TIME: Tuesday, September 13, and Thursday, September 15, 2011 at 10 a.m.

PLACE: 999 E Street, NW., Washington, DC (Ninth Floor).

STATUS: This meeting is closed to the public.

CHANGES IN THE MEETING: The September 13, 2011 meeting was canceled.

PERSON TO CONTACT FOR INFORMATION: Judith Ingram, Press Officer, Telephone: (202) 694-1220.

Shawn Woodhead Werth,
Secretary and Clerk of the Commission.

[FR Doc. 2011-23733 Filed 9-13-11; 11:15 am]

BILLING CODE 6715-01-P